DEPARTMENT OF ENERGY

Federal Energy Regulatory Commission

Combined Notice of Filings #2

Take notice that the Commission received the following exempt wholesale generator filings:

Docket Numbers: EG19-168-000.

Applicants: SR Arlington II MT, LLC.

Description: Notice of Self-Certification of Exempt Wholesale Generator Status of SR Arlington II MT, LLC.

Filed Date: 8/16/19.

Accession Number: 20190816-5149.

Comments Due: 5 p.m. ET 9/6/19.

Take notice that the Commission received the following electric rate filings:

Docket Numbers: ER19-2621-000.

Applicants: FirstLight Power Management LLC.

Description: Compliance filing: Notice of Succession and New eTariff Baseline Filing to be effective 8/17/2019.

Filed Date: 8/16/19.

Accession Number: 20190816-5072.

Comments Due: 5 p.m. ET 9/6/19.

Docket Numbers: ER19-2622-000.

Applicants: FirstLight Hydro Generating Company.

Description: Tariff Cancellation: Notice of Cancellation to be effective8/17/2019.

Filed Date: 8/16/19.

Accession Number: 20190816-5079.

Comments Due: 5 p.m. ET 9/6/19.

Docket Numbers: ER19-2623-000.

Applicants: California Independent System Operator Corporation.

Description: § 205(d) Rate Filing: 2019-08-16 EIM Implementation Agreement With Turlock Irrigation Dist. to be effective 1/1/2011.

Filed Date: 8/16/19.

Accession Number: 20190816-5090.

Comments Due: 5 p.m. ET 9/6/19.

Docket Numbers: ER19-2624-000.

Applicants: Merrill Lynch Commodities, Inc.

Description: § 205(d) Rate Filing: normal 2019 to be effective 8/17/2019.

Filed Date: 8/16/19.

Accession Number: 20190816-5132.

Comments Due: 5 p.m. ET 9/6/19.

Docket Numbers: ER19-2625-000.

Applicants: PacifiCorp.

Description: § 205(d) Rate Filing: BPA NITSA—(Idaho Falls Power) Rev 3 to be effective 8/1/2019.

Filed Date: 8/16/19.

Accession Number: 20190816-5140.

Comments Due: 5 p.m. ET 9/6/19.

Docket Numbers: ER19-2626-000.

Applicants: Rosewater Wind Farm LLC.

Description: Baseline eTariff Filing: Market-Based Rate Application to be effective 10/16/2019.

Filed Date: 8/16/19.

Accession Number: 20190816-5163.

Comments Due: 5 p.m. ET 9/6/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 16, 2019.
Nathaniel J. Davis, Sr.,
Deputy Secretary.

[FR Doc. 2019-18123 Filed 8-21-19; 8:45 am]

BILLING CODE 6717-01-P